DEPARTMENT OF ENERGY

Los Alamos Site Office, National Nuclear Security Administration; Notice of Floodplain/Wetlands Involvement for the Security Perimeter Project at Los Alamos National Laboratory, Los Alamos, NM

AGENCY: National Nuclear Security Administration, Los Alamos Site Office, DOE.

ACTION: Notice of floodplain/wetlands involvement.

SUMMARY: The National Nuclear Security Administration (NNSA), Los Alamos Site Office of the Department of Energy (DOE) plans to construct a single bypass road at the north end of Technical Area (TA) 3 at Los Alamos National Laboratory (LANL) in Los Alamos, New Mexico, as part of the Security Perimeter Project. This project combines the installation of access control stations at key locations around TA-3 and modification of road intersections with the construction of a bypass road to control unauthorized access to the core technical and administrative area at LANL. The proposed North Bypass Road will connect East Jemez Road, Diamond Drive, and State Road 501 by detouring behind the Los Alamos Research Park and along the south rim of Los Alamos Canyon (Figure 1). A bridge would be used to span a small tributary canyon. There is a small wetland within the Research Park that is primarily fed by stormwater runoff from adjacent buildings and parking lots. The wetland is less than 1,000 square feet in area and would be filled during construction of the bypass road. The 100-year floodplain of Los Alamos Canyon is located on the canyon floor below the Research Park and would not be directly impacted by the project; however, erosion and siltation controls would be emplaced at the construction site to protect the floodplain.

In accordance with 10 CFR Part 1022, NNSA had prepared a floodplain/wetlands assessment that evaluates the positive and negative, direct and indirect, and long- and short-term effects on floodplains and wetlands in and near the project area.

DATES: Comments are due to the address below no later than August 8, 2003.

ADDRESSES: Written comments should be addressed to: Elizabeth Withers, Department of Energy, National Nuclear Security Administration, Los Alamos Site Office, 528 35th Street, Los Alamos, NM 87544, or submit them to the Mail Room at the above address between the hours of 8 am and 4:30 p.m., Monday through Friday. Written comments may also be sent electronically to: ewithers@doeal.gov or by facsimile to (505) 667-9998.

FOR FURTHER INFORMATION CONTACT: Lloyd Smith, Department of Energy, National Nuclear Security Administration, Los Alamos Site Office, 528 35th Street, Los Alamos, NM 87544. Telephone (505) 667-4235, facsimile (505) 667-9998.

For further information on general DOE floodplain/wetlands environmental review requirements, contact: Carol M. Borgstrom, Director, Office of NEPA Policy and Compliance, EH-42, Department of Energy, 1000 Independence Avenue, SW., Washington DC 20585-0119. Telephone (202) 586-4600 or (800) 472-2756, facsimile (202) 586-7031.

SUPPLEMENTARY INFORMATION: As a result of the events of September 11, 2001, the nature and extent of the terrorist threat has changed significantly in terms of the potential magnitude of the attack as well as the terrorists' motivations, targets, and methods. In recognition of this increased threat, LANL management and security officials have determined that there is a critical need to upgrade the physical protection around the core LANL technical and administrative area in TA-3, which houses vital national assets, government property, and key scientific and support staff. LANL is one of the few sites in the DOE complex where the general public has access to the core technical area and where public roads pass in close proximity to critical research facilities. Temporary measures have been recently implemented to help protect particular LANL assets, but long-term measures are required to provide an additional level of protection to the core of LANL. Unauthorized (unscreened) access in the future must be restricted and controlled to minimize the possibility of a terrorist threat being introduced into the core area.

The selected approach combines the installation of three access control stations at key locations and modification of road intersections with the development of a single bypass road at the north end of TA-3 to accomplish the mission need described. The proposed North Bypass Road would connect East Jemez Road, Diamond Drive and State Road 501 by detouring around the north of the Los Alamos Research Park. A small wetland would be directly affected and indirect impacts to the 100-year floodplain would be avoided by the use of best management practices for erosion and siltation control.

In accordance with DOE regulations for compliance with floodplain and wetlands environmental review requirements (10 CFR Part 1022), NNSA has prepared a floodplain/wetlands assessment for this action, which is available by contacting Elizabeth Withers at the previously identified addresses, phone and facsimile numbers. The floodplain/wetlands assessment is available for review at the DOE Reading Room at the Los Alamos Outreach Center, 1619 Central Avenue, Los Alamos, NM 87854; and the DOE Reading Room at the Zimmerman Library, University of New Mexico, Albuquerque, NM 87131. The NNSA will publish a floodplain statement of findings for this project in the Federal Register no sooner than August 8, 2003.

Issued in Los Alamos, NM on July 7, 2003.
E. Dennis Martinez,
Acting Manager, Department of Energy, National Nuclear Security Administration, Los Alamos Site Office.

BILLING CODE 6450-01-P

[FR Doc. 03-18098 Filed 7-23-03; 8:45 am]

BILLING CODE 6450-01-C